DEPARTMENT OF TRANSPORTATION

Federal Aviation Administration

14 CFR Part 39

[Docket No. 2003-CE-65-AD; Amendment 39-14065; AD 2005-08-13]

RIN 2120-AA64

Airworthiness Directives; Glaser-Dirks Flugzeugbau GmbH Model DG-800B Sailplanes

AGENCY: Federal Aviation Administration (FAA), DOT.

ACTION: Final rule.

SUMMARY: The FAA adopts a new airworthiness directive (AD) for all Glaser-Dirks Flugzeugbau GmbH (DG Flugzeugbau) Model DG-800B sailplanes equipped with a SOLO 2625 engine or a Mid-West AE 50T engine. This AD requires you to modify the coolant pump and fuel pump electrical circuits, remove the non-resettable digital engine indicator (DEI) circuit breaker (4-ampere) and replace with a resettable 5-ampere circuit breaker, secure (for sailplanes with a SOLO 2625 engine) the choke butterfly valve axis, install edge protection at the sharp edges of the resettable 5-ampere DEI circuit breaker, and incorporate changes in the FAA-approved sailplane flight manual. This AD is the result of mandatory continuing airworthiness information (MCAI) issued by the airworthiness authority for Germany. We are issuing this AD to prevent electrical failure of the fuel and coolant pumps if a non-resettable circuit breaker trips. This could result in power loss with the inability to restart the fuel pump during a critical phase of flight (for example, takeoff under own power).

DATES: This AD becomes effective on June 6, 2005.

As of June 6, 2005, the Director of the Federal Register approved the incorporation by reference of certain publications listed in the regulation.

ADDRESSES: You may get the service information identified in this AD from DG Flugzeugbau, Postbox 41 20, D-76625 Bruchsal, Federal Republic of Germany; telephone: 011-49 7257-890; facsimile: 011-49 7257-8922.

You may view the AD docket at FAA, Central Region, Office of the Regional Counsel, Attention: Rules Docket No. 2003-CE-65-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What events have caused this AD? The Luftfahrt-Bundesamt (LBA), which is the airworthiness authority for Germany, recently notified FAA that an unsafe condition may exist on DG Flugzeugbau Model DG-800B sailplanes. The LBA reports both electrical circuits of the fuel pump and the coolant pump (on a SOLO 2625 engine or a Mid-West AE 50T engine) are protected by a non-resettable digital engine indicator (DEI) circuit breaker. The pumps will stop running if the non-resettable circuit breaker activates.

What is the potential impact if FAA took no action? If a non-resettable circuit breaker trips, this could result in power loss with the inability to restart the fuel pump during a critical phase of flight (for example, takeoff under own power).

Has FAA taken any action to this point? We issued a proposal to amend part 39 of the Federal Aviation Regulations (14 CFR part 39) to include an AD that would apply to all Glaser-Dirks Flugzeugbau GmbH (DG Flugzeugbau) Model DG-800B sailplanes equipped with a SOLO 2625 engine or a Mid-West AE 50T engine. This proposal was published in the Federal Register as a notice of proposed rulemaking (NPRM) on April 12, 2004 (69 FR 19135). The NPRM proposed to require you to modify the coolant pump and fuel pump electrical circuits, replace the non-resettable circuit breaker with a resettable circuit breaker, and (for a version of the Mikuni carburetor) secure the choke butterfly valve axis.

As a result of our further analysis of the service information and determining that important actions were omitted in the NPRM and should be incorporated, we issued a supplemental proposal to amend part 39 of the Federal Aviation Regulations (14 CFR part 39) to include an AD that would apply to all Glaser-Dirks Flugzeugbau GmbH (DG Flugzeugbau) Model DG-800B sailplanes equipped with a SOLO 2625 engine or a Mid-West AE 50T engine sailplanes. This proposal was published in the Federal Register as a supplemental NPRM on November 8, 2004 (69 FR 64692). The supplemental NPRM proposed to require you to do the following:

—Modify the coolant pump and fuel pump electrical circuits;

—Remove the non-resettable digital engine indicator (DEI) circuit breaker (4-ampere) and replace with a resettable 5-ampere circuit breaker;

—Secure the choke butterfly valve axis that is on the SOLO 2625 engine (new version Mikuni carburetor);

—Install edge protection at the sharp edges of the resettable 5-ampere DEI circuit breaker; and

—Incorporate “Flight Manual” changes that are listed in the service information.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 25 sailplanes in the U.S. registry.

What is the cost impact of this AD on owners/operators of the affected sailplanes? We estimate the following costs to do the modification:

Labor cost | Parts cost | Total cost per sailplane | Total cost on U.S. operators
6 workhours at $65 per hour = $390 | $100 | $490 | 25 × $490 = $12,250

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket No. 2003-CE-65-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-08-13 Glaser-Dirks Flugzeugbau GmbH: Amendment 39-14065; Docket No. 2003-CE-65-AD.

When Does This AD Become Effective?

(a) This AD becomes effective on June 6, 2005.

What Other ADs Are Affected by This Action?

(b) None.

What Sailplanes Are Affected by This AD?

(c) This AD affects all Model DG-800B sailplanes, all serial numbers, that are:

(1) Certificated in any category; and

(2) Equipped with a SOLO 2625 engine or a Mid-West AE 50T engine.

What Is the Unsafe Condition Presented in This AD?

(d) This AD is the result of mandatory continuing airworthiness information (MCAI) issued by the airworthiness authority for Germany. The actions specified in this AD are intended to prevent electrical failure of the fuel and coolant pumps if a non-resettable circuit breaker trips. This could result in power loss with the inability to restart the fuel pump during a critical phase of flight (for example, takeoff under own power).

What Must I Do To Address This Problem?

(e) To address this problem, you must do the following:

Actions | Compliance | Procedures
(1) Modify the coolant pump and fuel pump electrical circuits | Within the next 50 hours time-in-service (TIS) after June 6, 2005 (the effective date of this AD), unless already done | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(2) Remove the non-resettable digital engine indicator (DEI) circuit breaker (4-ampere) and replace with a resettable 5-ampere circuit breaker | Before further flight after the modification of the coolant pump and fuel pump electrical circuits required by paragraph (e)(1) of this AD | For sailplanes with a SOLO 2625 engine: Follow DG Flugzeugbau GmbH Technical Note No. 873/26, dated November 12, 2001; For sailplanes with a Mid-West AE 50T engine: Follow GD Flugzeugbau GmbH Technical Note No. 873/27, dated November 29, 2001.
(3) For sailplanes with engine SOLO 2625 (New version Mikuni carburetor): Secure the choke butterfly valve axis | Before further flight after the modificaiton of the coolant pump and fuel pump electrical circuits required by paragraph (e)(1) of this AD and the removal and replacement required by paragraph (e)(2) of this AD | For sailplanes with a SOLO 2625 engine: Follow DG Flugzeugbau GmbH Technical Note No. 873/26, dated November 12, 2001.
(4) Install edge protection at the sharp edges of the resettable 5-ampere DEI circuit breaker | Before further flight after the modification of the coolant pump and fuel pump electrical circuits required by paragraph (e)(1) of this AD and the removal and replacement required by paragraph (e)(2) of this AD | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(5) Incorporate changes in the FAA-approved sailplane flight manual (SFM) (i) The owner/operator holding at least a private pilot certificate as authorized by section 43.7 of the Federal Aviation Regulations (14 CFR 43.7) may do the flight manual changes requirement of this AD (ii) Make an entry in the aircraft records showing compliance with this portion of the AD following section 43.9 of the Federal Aviation Regulations (14 CFR 43.9) | Before further flight after the modifications required by paragraphs (e)(1), (e)(2), (e)(3), and (e)(4) of this AD | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(6) Do not install any SOLO 2625 engine or Mid-West AE 50T engine unless the modifications required by paragraphs (e)(1), (e)(2), (e)(3), and (e)(4) of this AD have been done | As of June 6, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, FAA. For information on any already approved alternative methods of compliance, contact Greg Davison, Aerospace Engineer, FAA, Small Airplane Directorate, 901 Locust, Room 301, Kansas City, Missouri 64106; telephone: (816) 329-4130; facsimile: (816) 329-4090.

Does This AD Incorporate Any Material by Reference?

(g) You must do the actions required by this AD following the instructions in DG Flugzeugbau GmbH Technical Note No. 873/26, dated November 12, 2001, and DG Flugzeugbau GmbH Technical Note No. 873/27, dated November 29, 2001. The Director of the Federal Register approved the incorporation by reference of this service bulletin in accordance with 5 U.S.C. 552(a) and 1 CFR part 51. You may get a copy from DG Flugzeugbau, Postbox 41 20, D-76625 Bruchsal, Federal Republic of Germany; telephone: 011-49 7257-890; facsimile: 011-49 7257-8922. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) German AD Number 2002-083, dated April 4, 2002, also addresses the subject of this AD.

Issued in Kansas City, Missouri, on April 12, 2005.
Nancy C. Lane,
Acting Manager, Small Airplane Directorate, Aircraft Certification Service.

[FR Doc. 05-7790 Filed 4-20-05; 8:45 am]

BILLING CODE 4910-13-P